DEPARTMENT OF TRANSPORTATION

Federal Aviation Administration

14 CFR Part 39

[Docket No. FAA-2005-20404; Directorate Identifier 2005-NM-018-AD; Amendment 39-14268; AD 2005-19-03]

RIN 2120-AA64

Airworthiness Directives; BAe Systems (Operations) Limited Model ATP Airplanes

AGENCY: Federal Aviation Administration (FAA), Department of Transportation (DOT).

ACTION: Final rule; request for comments.

SUMMARY: The FAA is superseding an existing airworthiness directive (AD), which applies to all BAe Systems (Operations) Limited Model ATP airplanes. That AD currently requires revising the Airworthiness Limitations Section (ALS) of the Instructions for Continued Airworthiness to incorporate life limits for certain items and inspections to detect fatigue cracking in certain structures. This new AD requires a revision to the ALS of the Instructions for Continued Airworthiness to incorporate new inspections to detect fatigue cracking of certain significant structural items (SSIs) and to revise life limits for certain equipment and various components. This AD is prompted by a determination that existing inspection techniques are not adequate for certain SSIs and by the revision of certain life limits. We are issuing this AD to detect and correct fatigue cracking of certain structural elements, which could adversely affect the structural integrity of these airplanes.

DATES: Effective September 28, 2005.

We must receive comments on this AD by November 14, 2005.

ADDRESSES: Use one of the following addresses to submit comments on this AD.

• DOT Docket Web site: Go to ­ http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9:00 a.m. and 5:00 p.m., Monday through Friday, except Federal holidays.

Contact British Aerospace Regional Aircraft American Support, 13850 Mclearen Road, Herndon, Virginia 20171, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Discussion

On December 22, 2000, we issued AD 2000-26-10, amendment 39-12060 (66 FR 267, January 3, 2001). That AD is applicable to all BAe Systems (Operations) Limited Model ATP airplanes. That AD requires revising the Airworthiness Limitations section (ALS) of the Instructions for Continued Airworthiness to incorporate life limits for certain items and inspections to detect fatigue cracking in certain structures. That AD resulted from a revision to the airworthiness limitations of the British Aerospace ATP Aircraft Maintenance Manual, which specifies new inspections and compliance times for inspection and replacement action. The actions specified in that AD are intended to detect and correct fatigue cracking of certain structural elements, which could adversely affect the structural integrity of these airplanes.

Actions Since Existing AD Was Issued

Since we issued AD 2000-26-10, the Civil Aviation Authority (CAA), which is the airworthiness authority for the United Kingdom, notified us that an unsafe condition may exist on all BAe Systems (Operations) Limited Model ATP airplanes. The CAA advises that existing inspection techniques given in Section 05-10-17 of the British Aerospace ATP Aircraft Maintenance Manual (AMM) are not adequate for certain structurally significant items (SSIs) and that certain mandatory life limitations given in Section 05-10-11 of the AMM have been revised. (The AMMs are described under “Relevant Service Information” below.) Inadequate inspection techniques or replacement intervals could result in fatigue cracking of certain structural elements, which could adversely affect the structural integrity of these airplanes.

Relevant Service Information

British Aerospace has issued revisions to Section 05-10-11, “Mandatory Life Limitations (Airframe)” and Section 05-10-17, “Structurally Significant Items (SSI'S)” both dated July 15, 2004; of the British Aerospace ATP AMM, which refer to additional chapters of the AMM. Those revised sections of the AMM include mandatory life limitations for the airframe and power plant/engine; and structural inspections of the fuselage, engine, horizontal stabilizer, and wing bottom surface. The revised section also describes new inspections and compliance times for inspection and replacement actions. Accomplishment of those actions will preclude the onset of fatigue cracking of certain structural elements of the airplane.

Accomplishing the actions specified in the service information is intended to adequately address the unsafe condition. The CAA mandated the service information and issued British airworthiness directive G-2004-0020, dated August 25, 2004, to ensure the continued airworthiness of these airplanes in the United Kingdom.

FAA's Determination and Requirements of This AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are issuing this AD to supersede AD 2000-26-10 and to continue to require a revision to the ALS of the Instructions for Continued Airworthiness to incorporate inspections to detect fatigue cracking of certain SSIs. This new AD revises life limits for certain equipment and various components that are specified in the previously referenced service information.

Clarification of British Airworthiness Directive

Operators should note that British airworthiness directive G-2004-0020 specifies to do the tasks for chapters 27, 32, 52, 53, and 54 in Section 05-10-11 of the British Aerospace ATP AMM. However, there are no tasks for chapter 52 listed in Section 05-10-11. Therefore, this AD requires incorporating the tasks for Chapters 27, 32, 53, and 54 listed in Section 05-10-11.

Costs of Compliance

None of the airplanes affected by this action are on the U.S. Register. Although 10 airplanes were on the U.S. Register at the time of issuance of AD 2000-26-10, all airplanes affected by this AD are currently operated by non-U.S. operators under foreign registry; therefore, these airplanes are not directly affected by this AD action. However, we consider this AD necessary to ensure that the unsafe condition is addressed if any affected airplane is imported and placed on the U.S. Register in the future.

If an affected airplane is imported and placed on the U.S. Register in the future, the required actions would take about 1 work hour per airplane, at an average labor rate of $65 per work hour. Based on these figures, the estimated cost of the AD would be $65 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Include “Docket No. FAA-2005-20404; Directorate Identifier 2005-NM-018-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12060 (66 FR 267, January 3, 2001) and by adding the following new airworthiness directive (AD):

2005-19-03 BAE Systems (Operations) Limited (Formerly British Aerospace Regional Aircraft): Amendment 39-14268. Docket No. FAA-2005-20404; Directorate Identifier 2005-NM-018-AD.

Effective Date

(a) This airworthiness directive (AD) becomes effective September 28, 2005.

Affected ADs

(b) This AD supersedes AD 2000-26-10, amendment 39-12060.

Applicability

(c) This AD applies to all BAE Systems (Operations) Limited Model ATP airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (i) of this AD. The request should include a description of changes to the required inspections that will ensure the continued damage tolerance of the affected structure. The FAA has provided guidance for this determination in Advisory Circular (AC) 25-1529.

Unsafe Condition

(d) This AD was prompted by a determination that existing inspection techniques are not adequate for certain structurally significant items and by the revision of certain life limits. We are issuing this AD to detect and correct fatigue cracking of certain structural elements, which could adversely affect the structural integrity of these airplanes.

Compliance

(e) You are responsible for having the actions required by this AD performed within the compliance times specified, unless the actions have already been done.

Restatement of Requirements of AD 2000-26-10

Airworthiness Limitations Revision

(f) Within 30 days after February 7, 2001 (the effective date of AD 2000-26-10), revise the Airworthiness Limitations section (ALS) of the Instructions for Continued Airworthiness according to a method approved by the Manager, International Branch, ANM-116, Transport Airplane Directorate, FAA. One approved method is by incorporating Section 05-00-00, dated August 15, 1997, of the British Aerospace ATP Aircraft Maintenance Manual (AMM), dated October 15, 1999, into the ALS. This section references other chapters of the AMM. The applicable revision level of the referenced chapters is that in effect on February 7, 2001. Doing the revision specified in paragraph (g) of this AD replaces Chapters 27, 32, 53, and 54 listed in Section 05-10-11 and Chapters 52, 53, 54, 55, and 57 listed in Section 05-10-17 that are in effect on February 7, 2001, with Chapters 27, 32, 53, and 54 listed in Section 05-10-11, “Mandatory Life Limitations (Airframe)'; and Chapters 52, 53, 54, 55, and 57 listed in Section 05-10-17, “Structurally Significant Items (SSI'S)”; both dated July 15, 2004; of the British Aerospace ATP AMM.

New Requirements of This AD

New Airworthiness Limitations

(g) Within 30 days after the effective date of this AD, revise the ALS of the Instructions for Continued Airworthiness according to a method approved by the Manager, International Branch, ANM-116, Transport Airplane Directorate, FAA. One approved method is by incorporating the tasks for Chapters 27, 32, 53, and 54 listed in Section 05-10-11, “Mandatory Life Limitations (Airframe)”; and the tasks for Chapters 52, 53, 54, 55, and 57 listed in Section 05-10-17, “Structurally Significant Items (SSI'S)”; both dated July 15, 2004; of the British Aerospace ATP AMM; into the ALS. These chapters replace the corresponding chapters in Section 05-00-00, dated August 15, 1997, of the British Aerospace ATP AMM as specified in paragraph (f) of this AD.

(h) Except as provided by paragraph (i) of this AD: After the actions specified in paragraphs (f) and (g) of this AD have been accomplished, no alternative inspections or inspection intervals may be approved for the structural elements specified in the documents listed in paragraphs (f) and (g) of this AD.

Alternative Methods of Compliance (AMOCs)

(i) The Manager, International Branch, ANM-116, Transport Airplane Directorate, FAA, has the authority to approve AMOCs for this AD, if requested in accordance with the procedures found in 14 CFR 39.19.

Related Information

(j) British airworthiness directive G-2004-0020, dated August 25, 2004, also addresses the subject of this AD.

Material Incorporated by Reference

(k) None.

Issued in Renton, Washington, on September 6, 2005.
Kalene C. Yanamura,
Acting Manager, Transport Airplane Directorate, Aircraft Certification Service.

[FR Doc. 05-18059 Filed 9-12-05; 8:45 am]

BILLING CODE 4910-13-P